DEPARTMENT OF AGRICULTURE

National Agricultural Statistics Service

Notice of Intent To Revise an Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intent of the National Agricultural Statistics Service (NASS) to request revision of a currently approved information collection, the National Childhood Injury and Occupational Injury Survey of Farm Operators.

DATES: Comments on this notice must be received by November 1, 2004 to be assured of consideration.

ADDRESSES: Comments may be sent to Ginny McBride, NASS Clearance Officer, U.S. Department of Agriculture, Room 5330B South Building, 1400 Independence Avenue SW., Washington, DC 20250-2024 or gmcbride@nass.usda.gov.

FOR FURTHER INFORMATION CONTACT: Carol House, Associate Administrator, National Agricultural Statistics Service, U.S. Department of Agriculture, (202) 720-4333.

SUPPLEMENTARY INFORMATION: Title: National Childhood Injury and Occupational Injury Survey of Farm Operators.

OMB Control Number: 0535-0235.

Expiration Date of Approval: 12/31/2004.

Type of Request: Revision of a Currently Approved Information Collection.

Abstract: The National Childhood Injury and Occupational Injury Survey of Farm Operators is designed to: (1) Provide estimates of childhood nonfatal injury incidence and description of injury occurring to children less than 20 years of age who reside, work, or visit farms and (2) describe the occupational injury experience of all farm operators. Data will be collected by telephone from all 50 states with 25,000 operations receiving a Childhood Injury version only and 25,000 receiving a combined Childhood Injury and Occupational Injury version. Questions will relate to injury problems occurring during the 2004 calendar year.

These data will update and enhance existing data series used by the National Institute of Occupational Safety and Health to: (1) Establish a measure of the number and rate of childhood injuries associated with farming operations and study the specific types of injuries sustained and (2) describe the scope and magnitude of occupational injuries associated with farming operations. The collection combines the youth and occupational injury studies to reduce the number of contacts on the targeted farm population. Reports will be generated and information disseminated to all interested parties concerning the finding of this study.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 3 minutes per response for the childhood injury questions and 10 minutes for the combined interview; screen-outs will be allowed early in both instruments if no injuries were incurred.

Respondents: Farm operators.

Estimated Number of Respondents: 50,000.

Estimated Total Annual Burden on Respondents: 5,400 hours.

Copies of this information collection and related instructions can be obtained without charge from Ginny McBride, Agency Clearance Officer, at (202) 720-5778.

Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, July 27, 2004.
Carol House,
Associate Administrator.

[FR Doc. 04-19583 Filed 8-26-04; 8:45 am]

BILLING CODE 3410-20-P